DEPARTMENT OF COMMERCE

Foreign-Trade Zones Board

[B-76-2014]

Foreign-Trade Zone 45—Portland, Oregon; Revision to Production Authority; Epson Portland, Inc., Subzone 45F; (Inkjet Cartridges and Bulk Ink); Hillsboro, Oregon

On October 20, 2014, Epson Portland, Inc. (EPI) submitted a notification of proposed revision to existing production authority to the Foreign-Trade Zones (FTZ) Board for EPI's facility in Hillsboro, Oregon, within Subzone 45F.

The notification was processed in accordance with the regulations of the FTZ Board (15 CFR part 400), including notice in the Federal Register inviting public comment (79 FR 64168-64169, 10-28-2014). The FTZ Board has determined that no further review of the proposed revision to the scope of production authority is warranted at this time. The proposed revision described in the notification is authorized, subject to the FTZ Act and the Board's regulations, including Section 400.14.

Dated: February 19, 2015.
Andrew McGilvray,
Executive Secretary.

[FR Doc. 2015-03895 Filed 2-24-15; 8:45 am]

BILLING CODE 3510-DS-P